DEPARTMENT OF TRANSPORTATION

Federal Highway Administration

Notice of Intent (for NEPA EIS); Environmental Impact Statement: Erie County, NY

AGENCY: Federal Highway Administration (FHWA), DOT.

ACTION: Notice of Intent.

SUMMARY: The FHWA is issuing this notice to advise the public that an environmental impact statement will be prepared for proposed highway project: NYS Route 198 (Scajaquada Expressway) Corridor, PIN 5470.22, I-190 to NYS Route 33, City of Buffalo, Erie County, New York.

FOR FURTHER INFORMATION CONTACT: Alan E. Taylor, Regional Director, NYSDOT Region 5; 100 Seneca Street, Buffalo NY 14203, Telephone: 716-847-3238; or Amy Jackson-Grove, Acting Division Administrator, Federal Highway Administration, New York division, Leo W. O'Brien Federal Building, 9th Floor, Clinton Avenue and North Pearl Street, Albany, New York 12207, Telephone: (518) 431-4127.

SUPPLEMENTARY INFORMATION: The FHWA, in cooperation with the New York State Department of Transportation (NYSDOT) will prepare an environmental impact statement (EIS) on a proposal to improve NYS Route 198 in Erie County, New York. The proposed improvement would involve the rehabilitation or reconstruction of the existing route between Interstate 190 and NYS Route 33 in the City of Buffalo for a distance of about 3.3 miles.

NYS Route 198 (the Scajaquada Expressway) is an Urban Principal Arterial Expressway on the National Highway System connecting Interstate 190 and NYS Route 33 with traffic volumes between 34,000 and 54,000 vehicles per day, a design speed of 55 mph, and grade separated interchanges. The expressway is subject to congestion (a poor Level of Service at several intersections) and accidents (higher than expected rates), with a portion of the corridor identified as having “severe safety needs.” There are also areas of poor pavement conditions and failing drainage systems. The expressway facility is at odds with the context of the surrounding culturally rich community resources, including a nationally renowned art gallery, an historic Olmsted-designed park, an historic cemetery, historic buildings, higher education institutions and residential neighborhoods. The expressway acts as a barrier, dividing the park and hindering the use of these resources by the community including pedestrians and bicyclists. A transportation facility is needed that balances the need to be in harmony with the surrounding community character with the need to provide safe and efficient transportation service for all modes of transportation through the affected area.

The range of alternatives will include no action and give consideration to design components derived from a previous study that investigated changing the expressway character of the existing facility by eliminating grade separated interchanges and providing design elements appropriate to an arterial including at-grade intersections with signals or roundabouts. Alternatives studied may include rehabilitation of the existing roadway, as well as full reconstruction including new curbs, highway drainage, sidewalks, bicycle paths and shared-use facilities, improved highway lighting and signing, and landscape enhancements. Areas of concern emphasized in the study will include potential environmental impacts upon the adjacent neighborhoods, parks, cultural resources, air quality and surface waters from construction, traffic and traffic noise. Additional input from Participating and Cooperating Agencies, and from the public, will be necessary before a final decision will be made regarding the full range of alternatives to be studied.

Letters describing the proposed action and soliciting comments will be sent to appropriate Federal, State, and local agencies, and to private organizations and citizens who have previously expressed interest in this proposal. A series of public information meetings will be held in the City of Buffalo between November 2007 and February 2010. In addition, a public hearing will be held. Public notice will be given of the time and place of the meetings and hearings. The draft EIS will be available for public and agency review and comment. A formal NEPA scoping meeting will be held in the lecture hall of the main building at Medaille College, 18 Agassiz Circle, Buffalo, NY 14214 on November 28 at 6 p.m.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation on Federal programs and activities apply to this program.)

Authority: 23 U.S.C. 315; U.S.C. 771.123.

Issued on: October 17, 2007.
Amy Jackson-Grove,
Acting Division Administrator, Federal Highway Administration, Albany, New York.

[FR Doc. E7-21214 Filed 10-26-07; 8:45 am]

BILLING CODE 4910-22-P